Title 3—

The President

Proclamation 10682 of December 4, 2023

Death of Sandra Day O'Connor

By the President of the United States of America

A Proclamation

Justice Sandra Day O'Connor was an American icon, the first woman on our Nation's highest court. She spent her career committed to the stable center, pragmatic and in search of common ground. Defined by her no-nonsense Arizona ranch roots, Justice O'Connor overcame discrimination early on, at a time when law firms too often told women to seek work as secretaries, not attorneys. She gave her life to public service, even holding elected office, and never forgot those ties to the people whom the law is meant to serve. She sought to avoid ideology, and was devoted to the rule of law and to the bedrock American principle of an independent judiciary. Justice O'Connor never quit striving to make this Nation stronger, calling on us all to engage with our country and with one another, and her institute's work to promote civics education and civil discourse has touched millions. She knew that for democracy to work, we have to listen to each other, and remember how much more we all have in common as Americans than what keeps us apart.

As a mark of respect for the memory and longstanding service of Sandra Day O'Connor, retired Associate Justice of the Supreme Court of the United States, I hereby order, by the authority vested in me by the Constitution and the laws of the United States of America, that on the day of her interment, the flag of the United States shall be flown at half-staff at the White House and upon all public buildings and grounds, at all military posts and naval stations, and on all naval vessels of the Federal Government in the District of Columbia and throughout the United States and its Territories and possessions until sunset on such day. I also direct that the flag shall be flown at half-staff for the same period at all United States embassies, legations, consular offices, and other facilities abroad, including all military facilities and naval vessels and stations.

IN WITNESS WHEREOF, I have hereunto set my hand this fourth day of December, in the year of our Lord two thousand twenty-three, and of the Independence of the United States of America the two hundred and forty-eighth.

[FR Doc. 2023-27043

Filed 12-6-23; 8:45 am]

Billing code 3395-F4-P